DEPARTMENT OF THE INTERIOR

National Park Service

[NPS-WASO-NAGPRA-13637; PPWOCRADN0-PCU00RP14.R50000]

Notice of Intent to Repatriate a Cultural Item: Field Museum of Natural History, Chicago, IL; Correction

AGENCY: National Park Service, Interior.

ACTION: Notice; correction.

SUMMARY: The Field Museum of Natural History has corrected a Notice of Intent to Repatriate published in the Federal Register on March 7, 2003. This notice removes the language surrounding right of possession and compromise of claim provisions that the Museum previously asserted were necessary for this repatriation to occur. Lineal descendants or representatives of any Indian tribe or Native Hawaiian organization not identified in this notice that wish to claim these cultural items should submit a written request to the Field Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Field Museum of Natural History at the address in this notice by September 16, 2013.

ADDRESSES: Helen Robbins, Repatriation Director, Field Museum of Natural History, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate a cultural item under the control of the Field Museum of Natural History that meets the definition of sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice removes the language surrounding right of possession and compromise of claim provisions published in a Notice of Intent to Repatriate in the Federal Register (68 FR 11136, March 7, 2003). The Museum no longer asserts that these provisions are necessary for the repatriation to occur and is removing them from the notice. Transfer of control of the items in this correction notice has not occurred.

Correction

In the Federal Register (68 FR 11136, March 7, 2003), paragraph eight is corrected by removing the entire paragraph from the notice.

Additional Requestors and Disposition

Lineal descendants or representatives of any Indian tribe or Native Hawaiian organization not identified in this notice that wish to claim these cultural items should submit a written request with information in support of the claim to Helen Robbins, Repatriation Director, Field Museum of Natural History, 1400 S Lake Shore Drive, Chicago, IL 60605, telephone (312) 665-7317, email hrobbins@fieldmuseum.org, by September 16, 2013. After that date, if no additional claimants have come forward, transfer of control of the sacred object to the Ho-Chunk Nation of Wisconsin may proceed.

The Field Museum of Natural History is responsible for notifying the Ho-Chunk Nation of Wisconsin and the Winnebago Tribe of Nebraska that this notice has been published.

Dated: July 25, 2013.
David Tarler,
Acting Manager, National NAGPRA Program.

[FR Doc. 2013-19994 Filed 8-15-13; 8:45 am]

BILLING CODE 4312-50-P